DEPARTMENT OF TRANSPORTATION

Federal Aviation Administration

14 CFR Part 71

[Docket No. FAA-2021-0152; Airspace Docket No. 21-AGL-2]

RIN 2120-AA66

Proposed Amendment of Jet Routes J-107 and J-515, and VOR Federal Airway V-181; Establishment of Area Navigation (RNAV) Route T-407; and Revocation of the Humboldt, MN, Domestic Low Altitude Reporting Point; Northcentral United States

AGENCY: Federal Aviation Administration (FAA), DOT.

ACTION: Notice of proposed rulemaking (NPRM).

SUMMARY: The FAA proposes to amend two Jet Routes and one VHF Omnidirectional Range (VOR) Federal Airway; establish one low altitude RNAV route; and revoke one Domestic Low Altitude Reporting Point, in the northcentral United States. This action is necessary due to the planned decommissioning of the VOR portion of the Humboldt, MN, VOR/Tactical Air Navigation (VORTAC) which provides navigation guidance to portions of the affected Air Traffic Service (ATS) routes. The Humboldt VOR is being decommissioned as part of the FAA's VOR Minimum Operational Network (VOR MON) program.

DATES: Comments must be received on or before April 26, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0152; Airspace Docket No. 21-AGL-2 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the central United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0152; Airspace Docket No. 21-AGL-2) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0152; Airspace Docket No. 21-AGL-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order 7400.11E, Airspace Designations and Reporting Points, dated July 21, 2020 and effective September 15, 2020. FAA Order 7400.11E is publicly available as listed in the ADDRESSES section of this document. FAA Order 7400.11E lists Class A, B, C, D, and E airspace areas, air traffic service routes, and reporting points.

Background

The FAA is planning decommissioning activities for the VOR portion of Humboldt VORTAC with a proposed effected date of December 2, 2021. The Humboldt VOR was one of the candidate VORs identified for discontinuance by the FAA's VOR MON program and listed in the Final policy statement notice, “Provision of Navigation Services for the NextGen Transition to Performance-Based Navigation (PBN) (Plan for Establishing a VOR MON),” published in the Federal Register of July 26, 2016 (81 FR 48694), Docket No. FAA-2011-1082. Although the VOR portion of the Humboldt VORTAC is planned for decommissioning, the co-located Distance Measuring Equipment (DME) and Tactical Air Navigation (TACAN) portions of the navigational aid are being retained in support of current and future RNAV procedures and Department of Defense mission requirements.

The ATS routes affected by the Humboldt VOR are J-107, J-515, and V-181. With the planned decommissioning of the Humboldt VOR, the remaining ground-based navigational aid coverage in the area is insufficient to enable the continuity of these affected routes. As a result, proposed modifications to J-107, J-515, and V-181 would result in airway segments being removed. To overcome the loss of route segments in the ATS routes, instrument flight rules (IFR) traffic may use adjacent Jet Routes, J-36, J-140, J-562, and J-89. Pilots equipped with RNAV capabilities may also file point to point through the affected area using fixes that will remain in place, or receive air traffic control radar vectors; the pilots could also use RNAV Route, Q-140, to navigate through or around the affected area. Visual flight rules (VFR) pilots who elect to navigate through the affected area may utilize the ATC services previously listed.

Additionally, the proposed new T-route would provide an enroute structure that would overlap the VOR Federal airway V-181 for RNAV capable aircraft. This new T-route proposal would also provide route options in areas of limited or no radar coverage to pilots whose aircraft are RNAV capable. The new airway will provide positive course guidance to aircraft navigating around areas of heavy aviation activity (i.e., Grand Forks) and Military Special Use Airspace (i.e., Tiger South MOA, Devils Lake East MOA, and Restricted Areas R-5403A/B/C/D/E/F). Furthermore, this proposed new airway would also support the FAA's plan to transition the National Airspace System from a ground-based surveillance and navigation system, to a satellite-based system.

Finally, FAA is proposing to remove the Humboldt, MN Domestic Low Altitude Reporting point. The reporting point is no longer required by air traffic control after the proposed route amendments would be implemented.

The Proposal

The FAA is proposing an amendment to 14 CFR part 71 to amend two Jet Routes; amend one VOR Federal Airway; establish one RNAV route; and revoke one reporting point. The proposed ATS route and reporting point amendments are described below.

J-107: J-107 extends between Los Angeles, CA, VORTAC and Sioux Narrows, ON, Canada, VOR/DME. The portion within Canada is excluded. The proposed change would remove the route segments between Dupree, SD, VOR/DME, and Sioux Narrows, ON, Canada, VOR/DME, and remove the exclusionary language. The resulting Jet Route would extend between Los Angeles, CA, VORTAC and Dupree, SD, VOR/DME.

J-515: J-515 extends between Fargo, ND, VOR/DME and the intersection of the Humboldt, MN, VORTAC 356° radial and US/Canada border; and between Whitehorse, YT, Canada and the Barrow, AK, VOR/DME. The airspace within Canada is excluded. The proposed change would remove the route segment between the Fargo, ND, VOR/DME and the intersection of the Humboldt, MN, VORTAC 356° radial and US/Canada border. As a result, the Jet Route would extend between Whitehorse, YT, Canada, VOR/DME and Barrow, AK, VOR/DME.

V-181: V-181 extends between Kirksville, MO, VORTAC, and the intersection of the Humboldt, MN, VORTAC, 356° radial and United States/Canada border. The proposed change would remove the route segment between the Grand Forks, ND, VOR/DME and the intersection of the Humboldt, MN, VORTAC, 356° radial and United States/Canada border. As a result, the airway would extend between the Kirksville, MO, VORTAC, and the Grand Forks, ND, VOR/DME.

T-407: T-407 would be a new RNAV route that extends between the Sioux Falls, SD, VORTAC and the ZOMTA fix, located at the US/Canadian border, 8 miles north of Humboldt, MN, VORTAC. This T-route would provide enroute routing over the current VOR Federal airway V-181 from Sioux Falls, SD, VORTAC north to the United States/Canadian border.

Humboldt: The Humboldt MN Domestic Low Altitude Reporting Point would be removed.

All of the navigational aid radials in the Jet Route descriptions below are stated in True degrees.

United States Jet Routes, VOR Federal airways, RNAV T-routes, and Domestic Low Altitude Reporting points are published in paragraphs 2004, 2010(a), 6011, and 7001, respectively, of FAA Order 7400.11E, dated July 21, 2020, and effective September 15, 2020, which are incorporated by reference in 14 CFR 71.1. The airways listed in this document would be subsequently updated in the next edition of this Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 2004 Jet Routes.

* * * * *

J-107 [Amended]

From Los Angeles, CA; INT Los Angeles 083° and Hector, CA, 226° radials; Hector; Boulder City, NV; Milford, UT; Rock Springs, WY; Muddy Mountain, WY; to Dupree, SD.

* * * * *

J-515 [Amended]

From Whitehorse, YT, Canada; Northway, AK; Fairbanks, AK; Bettles, AK; to Barrow, AK. The airspace within Canada is excluded.

* * * * *

Paragraph 6010(a) VOR Federal Airways.

* * * * *

V-181 [Amended]

From Kirksville, MO; Lamoni, IA; Omaha, IA; Norfolk, NE; Yankton, SD; Sioux Falls, SD; Watertown, SD; 34 miles, 24 miles, 34 MSL, Fargo, ND; to Grand Forks, ND.

* * * * *

Paragraph 6011 United States Area Navigation Routes.

* * * * *

T-407 Sioux Falls, SD (FSD) to ZOMTA, ND [New]
Sioux Falls, SD (FSD) | VORTAC | (Lat. 43°38′58.14″ N, long. 096°46′52.02″ W)
FFORT, SD | WP | (Lat. 44°58′47.45″ N, long. 097°08′30.36″ W)
Fargo, ND (FAR) | VOR/DME | (Lat. 46°45′12.01″ N, long. 096°51′04.75″ W)
Grand Forks, ND (GFK) | VOR/DME | (Lat. 47°57′17.40″ N, long. 097°11′07.33″ W)
WUBED, MN | FIX | (Lat. 48°43′30.50″ N, long. 097°07′40.81″ W)
ZOMTA, ND | FIX | (Lat. 49°00′00.00″ N, long. 097°07′54.80″ W)

Paragraph 7001 Domestic Low Altitude Reporting Points.

* * * * *

Humboldt, MN [Removed]

* * * * *

Issued in Washington, DC, on March 2, 2021.
George Gonzalez,
Acting Manager, Rules and Regulations Group.

[FR Doc. 2021-04873 Filed 3-9-21; 8:45 am]

BILLING CODE 4910-13-P